DEPARTMENT OF HEALTH AND HUMAN SERVICES

National Institutes of Health

Center for Scientific Review; Amended Notice of Meeting

Notice is hereby given of a change in the meeting of the Center for Scientific Review Special Emphasis Panel, November 25, 2002, 12:30 p.m. to November 25, 2002, 2 p.m., which was published in the Federal Register on November 15, 2002, 67 FR 69228-69229.

The meeting will be held December 4, 2002, from 3:30 p.m. to 5 p.m. The location remains the same. The meeting is closed to the public.

Dated: November 21, 2002.
LaVerne Y. Stringfield,
Director, Office of Federal Advisory Committee Policy.

[FR Doc. 02-30859 Filed 12-04-02; 8:45 am]

BILLING CODE 4140-01-M